DEPARTMENT OF COMMERCE

Foreign-Trade Zones Board

[Docket 21-2005]

Foreign-Trade Zone 105—North Kingstown, RI; Request for Manufacturing Authority; Southeastern New England Shipbuilding Corporation (Shipbuilding)

An application has been submitted to the Foreign-Trade Zones Board (the Board) by the Rhode Island Economic Development Corporation (RIEDC), grantee of FTZ 105, pursuant to Section 400.28(a)(2) of the Board's regulations (15 CFR Part 400), requesting authority on behalf of Southeastern New England Shipbuilding Corporation (Senesco) to construct and repair oceangoing vessels under FTZ procedures within FTZ 105. It was formally filed on May 16, 2005.

The Senesco shipyard (450 employees, 31 acres, capacity: up to 4 vessels/year) is located at 10 MacNaught Street within the Quonset Business Park (FTZ Site 2), in North Kingstown, Rhode Island. Under FTZ procedures, Senesco would construct and repair tugboats (HTSUS 8901.90), double-hulled liquid barges (HTSUS 8901.20) and articulating tug barges for domestic and international customers. Foreign components that would be used at the shipyard (up to 30% of total purchases) include: diesel engines (HTSUS 8408.10), stern tubes (8483.30), reduction gears (8483.40), shaft grounding systems and seals (8483.90), generators (8501.62, 8501.63), overfill alarms (8531.90), tank washing machines (8537.10), valve remote operators (8537.10), tank gauging systems (8537.10), and ACCU automation/steering systems (8537.10) (duty rates: 1.3-4.5%). The request indicates that Senesco will not admit any foreign-origin steel mill products to the zone for use in FTZ manufacturing activity.

FTZ procedures would exempt Senesco from Customs duty payments on the foreign components (except steel mill products) used in export activity. On its domestic sales, the company would be able to choose the duty rate that applies to finished oceangoing vessels (duty free) for the foreign-origin components noted above. Duties would be deferred or reduced on foreign production equipment admitted by Senesco to the zone until which time it becomes operational. The manufacturing and repair activity conducted under FTZ procedures would be subject to the “standard shipyard restriction” applicable to foreign-origin steel mill products (e.g., angles, pipe, plate), which requires that all applicable Customs duties be paid on such items. The application indicates that the savings from FTZ procedures would help improve the facility's international competitiveness.

Public comment on the application is invited from interested parties. Submissions (original and three copies) shall be addressed to the Board's Executive Secretary at the following addresses:

1. Submissions via Express/Package Delivery Services: Foreign-Trade Zones Board, U.S. Department of Commerce, Franklin Court Building—4100W, 1099 14th Street, NW., Washington, DC 20005; or,

2. Submissions via the U.S. Postal Service: Foreign-Trade Zones Board, U.S. Department of Commerce, FCB-4100W, 1401 Constitution Ave., NW., Washington, DC 20230.

The closing period for their receipt is July 7, 2005. Rebuttal comments in response to material submitted during the foregoing period may be submitted during the subsequent 15-day period (to July 22, 2005).

A copy of the application will be available for public inspection at the Office of the Foreign-Trade Zones Board's Executive Secretary at address No.1 listed above.

Dated: May 16, 2005.
Dennis Puccinelli,
Executive Secretary.

[FR Doc. 05-10243 Filed 5-20-05; 8:45 am]

BILLING CODE 3510-DS-P